DEPARTMENT OF HOMELAND SECURITY

Office of the Secretary

[Docket No. FLETC-2006-0001]

Notice of Charter Renewal for the Advisory Committee to the Office of State and Local Training

AGENCY: Federal Law Enforcement Training Center, DHS.

ACTION: Renewal.

SUMMARY: The charter for the Advisory Committee to the Office of State and Local Training at the Federal Law Enforcement Training Center was renewed for a 2-year period beginning March 22, 2006.

DATES: NA.

ADDRESSES: If you desire to submit comments, they must be submitted within 10 days after publishing of Notice. Comments must be identified by FLETC-2006-0001 and may be submitted by one of the following methods:

• Federal eRulemaking Portal: http://www.regulations.gov. Follow the instructions for submitting comments.

• E-mail: reba.fischer@dhs.gov. Include docket number in the subject line of the message.

• Fax: (912) 267-3531. (Not a toll-free number).

• Mail: Reba Fischer, Federal Law Enforcement Training Center, Department of Homeland Security, 1131 Chapel Crossing Road, Townhouse 396, Glynco, GA 31524.

Instructions: All submissions received must include the agency name and docket number for this rulemaking. All comments received will be posted without change to http://www.regulations.gov, including any personal information provided.

Docket: For access to the docket to read background documents or comments received, go to http://www.regulations.gov.

FOR FURTHER INFORMATION CONTACT: Reba Fischer, Designated Federal Officer, 912-267-2343, reba.fischer@dhs.gov.

SUPPLEMENTARY INFORMATION: Notice of this renewal is given under the Federal Advisory Committee Act, 5 U.S.C. App. 1 et seq. The Federal Law Enforcement Training Center announces the charter renewal of the Advisory Committee to the Office of State and Local Training. The Advisory Committee provides a forum for discussion and interchange between a broad cross-section of representatives from the law enforcement community and related training associations on training issues and needs. No forum exists which provides the broad representation required to meet the needs of the Office of State and Local Training. The Committee does not duplicate functions being performed within Department of Homeland Security or elsewhere in the Federal Government.

Stanley Moran,
Deputy Assistant Director, Office of State and Local Law Enforcement Training.

[FR Doc. E6-5711 Filed 4-17-06; 8:45 am]

BILLING CODE 4410-32-P